DEPARTMENT OF ENERGY

Federal Energy Regulatory Commission

[Docket No. GT00-14-001]

Northwest Pipeline Corporation; Notice of Proposed Changes in FERC Gas Tariff

February 16, 2000.

Take notice that on February 10, 2000, Northwest Pipeline Corporation (Northwest) tendered for filing as part of its FERC Gas Tariff, Third Revised Volume No. 1, the following tariff sheets to be effective March 2, 2000:

Substitute Sixth Revised Sheet No. 363

Substitute Fifth Revised Sheet No. 364

Substitute Fourth Revised Sheet No. 365

Northwest states that the purpose of this filing is to respond the Commission's Data Request dated February 8, 2000 in Docket No. GT00-14-000. Northwest states that it has corrected Sheet No. 365 so that the shipper associated with Agreement Nos. 122286 and 122287 is listed as Intermountain Gas Company. Northwest also states that it has corrected a clerical error on Sheet Nos. 363, 364, and 365 so that the “Issued Date” listed on those tariff sheets is now correctly shown as February 2, 2000.

Northwest states that a copy of this filing has been served upon each person designated on the official service list compiled by the Secretary in this proceeding.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed. us/online/rims.htm (call 202-208-222 for assistance).

David P. Boergers,
Secretary.

[FR Doc. 00-4184 Filed 2-22-00; 8:45 am]

BILLING CODE 6717-01-M